FEDERAL DEPOSIT INSURANCE CORPORATION

Notice to All Interested Parties of Intent To Terminate Receiverships

Notice is hereby given that the Federal Deposit Insurance Corporation (FDIC or Receiver), as Receiver for the institutions listed below, intends to terminate its receivership for said institutions.

Notice of Intent To Terminate Receiverships
Fund | Receivership name | City | State | Date of appointment of receiver
10013 | Silver State Bank | Henderson | NV | 09/05/2008
10025 | First Georgia Community Bank | Jackson | GA | 12/05/2008
10027 | Haven Trust Bank | Duluth | GA | 12/12/2008
10029 | Bank of Clark County | Vancouver | WA | 01/16/2009
10032 | Ocala National Bank | Ocala | FL | 01/30/2009
10050 | New Frontier Bank | Greeley | CO | 04/10/2009
10055 | First Bank of Idaho, FSB | Ketchum | ID | 04/24/2009
10056 | Michigan Heritage Bank | Farmington Hills | MI | 04/24/2009
10058 | Citizens Community Bank | Ridgewood | NJ | 05/01/2009
10060 | Westsound Bank | Bremerton | WA | 05/08/2009
10068 | Community Bank of West Georgia | Villa Rica | GA | 06/26/2009
10095 | Integrity Bank | Jupiter | FL | 07/31/2009
10102 | Union Bank, NA | Gilbert | AZ | 08/14/2009
10329 | Enterprise Banking Co | McDonough | GA | 01/21/2011
10333 | First Community Bank | Taos | NM | 01/28/2011
10366 | First Georgia Banking Co | Franklin | GA | 05/20/2011
10378 | One Georgia Bank | Atlanta | GA | 07/15/2011
10387 | Bank of Whitman | Colfax | WA | 08/05/2011
10427 | Home Savings of America | Little Falls | MN | 02/24/2012
10428 | Global Commerce Bank | Doraville | GA | 03/02/2012

The liquidation of the assets for each receivership has been completed. To the extent permitted by available funds and in accordance with law, the Receiver will be making a final dividend payment to proven creditors.

Based upon the foregoing, the Receiver has determined that the continued existence of the receiverships will serve no useful purpose. Consequently, notice is given that the receiverships shall be terminated, to be effective no sooner than thirty days after the date of this notice. If any person wishes to comment concerning the termination of any of the receiverships, such comment must be made in writing, identify the receivership to which the comment pertains, and be sent within thirty days of the date of this notice to: Federal Deposit Insurance Corporation, Division of Resolutions and Receiverships, Attention: Receivership Oversight Section, 600 North Pearl, Suite 700, Dallas, TX 75201.

No comments concerning the termination of the above-mentioned receiverships will be considered which are not sent within this timeframe.

(Authority: 12 U.S.C. 1819)

Federal Deposit Insurance Corporation.
Dated at Washington, DC, on January 27, 2023.
James P. Sheesley,
Assistant Executive Secretary.

[FR Doc. 2023-02115 Filed 1-31-23; 8:45 am]

BILLING CODE 6714-01-P